DEPARTMENT OF COMMERCE

Foreign-Trade Zones Board

[B-73-2016]

Foreign-Trade Zone (FTZ) 176—Rockford, Illinois, Authorization of Production Activity, Brake Parts Inc. (Automotive Parts Kitting), McHenry, Illinois

On November 2, 2016, Brake Parts Inc., submitted a notification of proposed production activity to the Foreign-Trade Zones (FTZ) Board for its facility within FTZ Subzone 176G, in McHenry, Illinois.

The notification was processed in accordance with the regulations of the FTZ Board (15 CFR part 400), including notice in the Federal Register inviting public comment (81 FR 79415, November 14, 2016). The FTZ Board has determined that no further review of the activity is warranted at this time. The production activity described in the notification is authorized, subject to the FTZ Act and the Board's regulations, including Section 400.14.

Dated: March 1, 2017.
Andrew McGilvray,
Executive Secretary.

[FR Doc. 2017-04276 Filed 3-3-17; 8:45 am]

BILLING CODE 3510-DS-P